NATIONAL SCIENCE FOUNDATION

Committee Management; Renewals

The NSF management officials having responsibility for the seven advisory committees listed below have determined that renewing these groups for another two years is necessary and in the public interest in connection with the performance of duties imposed upon the Director, National Science Foundation (NSF), by 42 U.S.C. 1861 et seq. This determination follows consultation with the Committee Management Secretariat, General Services Administration.

1. Advisory Committee for Small Business Industrial Innovation (#61)

2. Advisory Committee for Biological Sciences (#1110)

3. Advisory Committee for Education & Human Resources (#1119)

4. Advisory Committee for Polar Programs (#1130)

5. Advisory Committee for Engineering (#1170)

6. Alan T. Waterman Award Committee (#1172)

7. Advisory Committee for Geosciences (#1755)

Authority for these Committees will expire on June 30, 2003, unless they are renewed. For more information, please contact Susanne Bolton, NSF, at (703) 292-7488.

Dated: June 5, 2001.
Susanne Bolton,
Committee Management Officer.

[FR Doc. 01-14501 Filed 6-7-01; 8:45 am]

BILLING CODE 7555-01-M